Title 3—

The President

Proclamation 10419 of June 22, 2022

50th Anniversary of the Federal Pell Grant Program

By the President of the United States of America

A Proclamation

For 50 years, the Federal Pell Grant program has been the cornerstone of our Nation's efforts to create a financial pathway for tens of millions of low- and middle-income students to attend college. Established by the Congress in 1972 and named after former United States Senator from Rhode Island Claiborne Pell, a champion of higher education with whom I served in the United States Senate, Pell Grants are awarded to students based exclusively on their financial need. Since the program's creation, Pell Grants have helped more than 80 million students attend college and pursue their dreams.

Today, Pell Grants form the foundation of many students' financial assistance packages—especially for students of color. As the single largest source of grants for postsecondary education, Pell Grants were awarded to more than one-third of undergraduate students last academic year.

My Administration is committed to ensuring that higher education is equitable, accessible, and affordable for every student across the country. That is why, earlier this year, I signed a bill that includes the largest Pell Grant increase in over a decade. My Fiscal Year 2023 Budget calls for another historic increase in Pell Grants for academic year 2023-2024 and would double the maximum Pell Grants provided by 2029. Together, these investments will make it possible for more students from all backgrounds to pursue a postsecondary education that prepares them for quality employment and helps our Nation compete in the 21st century.

My Administration has also significantly expanded the Second Chance Pell Initiative, which enables students who are incarcerated to receive this critical grant aid so they can participate in postsecondary education programs, supporting their success and helping them make greater contributions to society upon their release. First established in 2015 by the Obama-Biden Administration, the Initiative has expanded under my Administration to 73 additional schools, providing access to education to thousands of additional students, reducing recidivism rates, and improving public safety. This will help the Department of Education prepare for the full expansion of Pell Grant eligibility to incarcerated students in July 2023.

On this 50th anniversary, our Nation pays tribute to the importance of Federal Pell Grants and the opportunities they afford millions of students across our Nation. Today, let us recommit to expanding access to quality education so that all of our citizens are empowered to achieve their professional goals and contribute to the success and prosperity of America.

NOW, THEREFORE, I, JOSEPH R. BIDEN JR., President of the United States of America, by virtue of the authority vested in me by the Constitution and the laws of the United States, do hereby proclaim June 23, 2022, as the 50th Anniversary of the Federal Pell Grant Program. I call upon all Americans to observe this milestone and to recognize the significant contribution Pell Grants have made to strengthen our Nation's prosperity by making a college education more available to all of our children.

IN WITNESS WHEREOF, I have hereunto set my hand this twenty-second day of June, in the year of our Lord two thousand twenty-two, and of the Independence of the United States of America the two hundred and forty-sixth.

[FR Doc. 2022-13785

Filed 6-24-22; 8:45 am]

Billing code 3395-F2-P